COMMITTEE FOR THE IMPLEMENTATION OF TEXTILE AGREEMENTS

Removing a Company From List of Companies in Macau From Which Customs Shall Deny Entry to Textiles and Textile Products

December 20, 2002.

AGENCY: Committee for the Implementation of Textile Agreements (CITA).

ACTION: Issuing a directive to the Commissioner of Customs directing Customs not to apply the directive regarding denial of entry to shipments from a certain company.

EFFECTIVE DATE: December 20, 2002.

FOR FURTHER INFORMATION CONTACT: Janet Heinzen, International Trade Specialist, Office of Textiles and Apparel, U.S. Department of Commerce, (202) 482-3400.

SUPPLEMENTARY INFORMATION:

Authority: Section 204 of the Agricultural Act of 1956, as amended (7 U.S.C. 1854); Executive Order 12475 of May 9, 1984, as amended.

In a notice and letter to the Commissioner of Customs, dated August 27, 2002, and published in the Federal Register on September 3, 2002 (67 FR 56282), the Chairman of CITA directed the U.S. Customs Service to deny entry to textiles and textile products allegedly manufactured by certain listed companies in Macau; Customs had informed CITA that these companies were found to have been illegally transshipping, closed, or unable to produce records to verify production.

Based on information received since that time, CITA has determined that Mei Lai, one of the listed companies, should not be subject to that directive. Effective on December 20, 2002, Customs should not apply the directive to shipments of textiles and textile products allegedly manufactured by this company. CITA expects that Customs will conduct additional on-site verifications of this company's production when possible.

James C. Leonard III,
Chairman, Committee for the Implementation of Textile Agreements.

Committee for the Implementation of Textile Agreements

December 20, 2002.

Commissioner of Customs,

Department of the Treasury, Washington, DC 20229.

Dear Commissioner: In the letter to the Commissioner of Customs, dated August 27, 2002 (67 FR 56282), the Chairman of CITA directed the U.S. Customs Service to deny entry to textiles and textile products allegedly manufactured by certain listed companies in Macau; Customs had informed CITA that these companies were found to have been illegally transshipping, closed, or unable to produce records to verify production.

Based on information received since that time, CITA has determined that Mei Lai, one of the listed companies, should not be subject to that directive. Effective on December 20, 2002, Customs should not apply the directive to shipments of textiles and textile products allegedly manufactured by this company. CITA expects that Customs will conduct additional on-site verifications of this company's production when possible.

The Committee for the Implementation of Textile Agreements has determined that this action falls within the foreign affairs exception to the rulemaking provisions of 5 U.S.C. 553(a)(1).

Sincerely,

James C. Leonard III,

Chairman, Committee for the Implementation of Textile Agreements.

[FR Doc.02-32539 Filed 12-20-02; 2:06 pm]

BILLING CODE 3510-DR-S